DEPARTMENT OF JUSTICE

Antitrust Division

Notice Pursuant to the National Cooperative Research and Production Act of 1993—Digital Imaging Group, Inc.

Notice is hereby given that, on May 30, 2001, pursuant to Section 6(a) of the National Cooperative Research and Production Act of 1993, 15 U.S.C. 4301 et seq. (“the Act”), Digital Imaging Group, Inc. has filed written notifications simultaneously with the Attorney General and the Federal Trade Commission disclosing changes in its membership status. The notifications were filed for the purpose of extending the Act's provisions limiting the recovery of antitrust plaintiffs to actual damages under specified circumstances. Specifically, InfoTrends Research Group, Boston, MA has been added as a party to this venture. Also, Alinari Photo Archives, Firenze, ITALY; iPIX, Inc., Oakridge, TN; Iterated Systems, Inc., Atlanta, GA; Pixo Arts Corporation, Redwood City, CA; ST Microelectronics, San Diego, CA; pix.com, Inc., San Jose, CA; HMR Inc., Veauport, Quebec, CANADA; Pegasus Imaging Corporation, Tampa, FL; Photoaccess.com, Mountain View, CA; CNS Development, Colleyville, TX; Octalis, Louvain La Neuve, BELGIUM; PhotoWorks, Inc., Seattle, WA; Digital Copyright Technologies, Zurich, SWITZERLAND; and Ofoto, Inc., Berkeley, CA have been dropped as parties to this venture.

No other changes have been made in either the membership or planned activity of the group research project. Membership in this group research project remains open, and Digital Imaging Group, Inc. intends to file additional written notification disclosing all changes in membership.

On September 25, 1997, Digital Imaging Group, Inc. filed its original notification pursuant to Section 6(a) of the Act. The Department of Justice published a notice in the Federal Register pursuant to Section 6(b) of the Act on November 10, 1997 (62 FR 60530).

The last notification was filed with the Department on May 11, 2000. A notice has not yet been published in the Federal Register.

Constance K. Robinson,
Director of Operations, Antitrust Division.

[FR Doc. 01-18899 Filed 7-27-01; 8:45 am]

BILLING CODE 4410-11-M